DEPARTMENT OF TRANSPORTATION

Federal Aviation Administration

Notice of Intent To Prepare a Supplement to and To Conduct Environmental Scoping on 1992 Final Environmental Impact Statement (FEIS) for Master Plan Development [Midfield Terminal Complex] at Indianapolis International Airport Located in Indianapolis, IN

AGENCY: Federal Aviation Administration, DOT.

ACTION: Notice to announce the intent of FAA to prepare a Supplement to the 1992 Final EIS at Indianapolis International Airport and conduct environmental scoping.

SUMMARY: The Federal Aviation Administration (FAA) is issuing this notice to advise the public that a Supplement to the 1992 Final Environmental Impact Statement (FEIS)—Master Plan Development, Indianapolis International Airport, will be prepared. In 1992, a Final EIS (FEIS) and a Record of Decision (ROD) were completed for the proposed master plan development at Indianapolis International Airport (IND). While the majority of the development elements assessed in the 1992 FEIS have been complex, the midfield terminal complex and associated developments have not been constructed.

However, there have been a number of steps taken towards the development of the midfield terminal complex and associated developments. In November 2000, the Indianapolis Airport Authority (IAA) announced its intention to construct a midfield terminal complex and associated development. The FAA determined that it is appropriate to prepare a Supplement to the 1992 FEIS (SFEIS) because the IAA's proposed development contains more modifications from the same development elements proposed and assessed in the 1992 FEIS. Additional public scoping will be held in order that all significant issues related to the revised proposed actions are identified.

FOR FURTHER INFORMATION CONTACT: Prescott C. Snyder, Airports Environmental Program Manager, Federal Aviation Administration, Chicago Airports District Office, Room 320, 2300 East Devon Avenue, Des Plaines, Illinois 60018. Mr. Snyder can be contacted at (847) 294-7538 (voice), (847) 294-7046 (facsimile) or by e-mail at prescott.snyder@faa.gov.

SUPPLEMENTARY INFORMATION: At the request of the Indianapolis Airport Authority, the FAA is preparing a Supplement to the 1992 Final Environmental Impact Statement. In November 2000, the Indianapolis Airport Authority (IAA) announced its intention to construct a midfield terminal complex and associated development at IND. The FAA determined that it was appropriate to prepare a Supplement to the 1992 FEIS (SFEIS) because the IAA's proposed development contains more modifications from the same development elements proposed and assessed in the 1992 FEIS.

The proposed developed assessed in the 1992 FEIS included nine primary actions of which, five have been completed and four have not yet been initiated. A number of miscellaneous actions were also assessed in the 1992 EIS. The elements and the status of the primary actions proposed in the 1992 FEIS are as follows:

Completed Actions

• Construct a new 11,200-foot replacement Runway 5L/23R with associated taxiway development

• Develop a north taxiway to proposed Runway 5L/23R

• Develop a south taxiway to proposed Runway 5L/23R

• Develop a western taxiway parallel to existing Runway 14/32

• Relocated the Indiana Power & Light Company power lines west of the airport

• Relocate Bridgeport Road

• Implement the airport's Part 150 noise abatement air traffic actions

Uncompleted Actions

• Construct a new midfield terminal complex

• Relocate the Airport Traffic Control Tower

• Construct a new midfield interchange at Interstate 70/Bridgeport Road (Midfield Terminal Interchange)

• Develop two cross-field taxiways

• Develop an additional high-speed taxiway exist for Runway 14/34 (Not being assessed in this Supplement).

While the majority of the actions assessed in the 1992 FEIS have been completed, the midfield terminal complex and associated developments have not been constructed.

However, there have been a number of steps taken towards the development of the midfield terminal complex and associated developments. These include: completion of environmental mitigation as detailed in the 1992 FEIS (i.e., wetlands and “Indiana Bat” habitat); construction of replacement Runway 5L/23R, which opened the midfield site for development; partial removal of old Runway 5L/23R and relocation of navaids; and the preparation of additional studies to further define midfield terminal project (Peer Review Process of Midfield Terminal Studies, Terminal Area Master Plan, Indianapolis International Airport Midfield Terminal Project Definition Manual (Project Definition).

The SFEIS is not seeking environmental approval for any actions not related to the development and operation of the midfield terminal complex. Also, the development of an additional high-speed taxiway for Runway 14/32 is no longer on the airport's Airport Layout Plan (ALP) and is not being assessed as part of this evaluation.

The 1992 FEIS utilized the latest available planning design guidelines and forecasts of passengers and operations available at that time to define the design elements of the midfield terminal complex and associated developments. However, at that time, a number of the design elements were unavailable or were preliminary estimates. Since 1992, the Indianapolis Airport Authority has conducted a number of studies to refine and update the design elements of the midfield terminal complex. These studies, including the most recent Project Definition, have incorporated the latest planning guidelines regarding gate use factors, commercial/retail space, ticket check-in areas, baggage claim space, moving sidewalk requirements, aircraft gate requirements, parking and automobile requirements. The result is that most of the individual design elements from the 1992 FEIS have been refined and updated. However, the overall design objectives for the midfield terminal complex, built to meet the latest planning guidelines and to accommodate future passenger and aircraft demand, remains consistent with that stated in and assessed in the 1992 FEIS.

For this Supplement to the Final EIS (SFEIS), the Proposed Project consists of a new midfield terminal complex and associated development (relocation of Airport Traffic Control Tower, development of midfield terminal interchange, and construction of cross-field taxiways). The midfield terminal complex as defined in the 1992 FEIS was anticipated to open in 2001 and was designed to accommodate forecasted 2005 levels of enplaned passengers and operations; 5,041,000 passengers and 389,557 operations. The Indianapolis International Airport Midfield Terminal Project Definition Manual (Project Definition), completed in April 2000, updated the opening year to 2005 and defined the design elements to accommodate 5,500,000 enplaned passengers, which was based on updated forecasts for 2010. Since the preparation of the Project Definition, the FAA Terminal Area Forecasts (TAF) for IND have been updated and report 5,653,123 enplaned passengers and 329,358 annual operations for 2010. The enplaned passenger projections in the TAF and the Project Definition are within three percent of each other. Because the TAF and Project Definition forecasts of enplaned passengers are similar and the TAF is the official forecast of enplaned passengers and annual operations for the facility, the TAF projections will be used throughout this analysis.

The 1992 FEIS definition of the midfield terminal complex anticipated the need for 45 air carrier gates and 28 commuter spaces to accommodate the aircraft fleet projected for 2005. The updated definition of the midfield terminal complex in the Project Definition has 40 air carrier gates and two turbo-prop commuter gates. The difference in the number of gates is due to changes in the terminal design, which reflects higher gate utilization, increased passenger service level requirements, and updated aircraft requirement assumptions to reflect changes in updated forecasts of fleet mix. The change in the number of turbo-prop gates is due to the switch nationally from turbo-prop aircraft to regional jet aircraft for commuter operations. This change was not fully anticipated when the forecasts for the 1992 FEIS were prepared. Consequently, the number of turbo-prop spaces was significantly reduced in the Project Definition to reflect updated forecasts for turbo-prop operations. The regional jets, which are replacing the turbo-prop aircraft, would utilize the same gates as air carrier jet aircraft.

The overall square footage (680,000 square feet) of the midfield terminal complex in the 1992 FEIS is smaller than the midfield terminal complex described in the Project Definition (1,210,200 square feet). The increase in terminal square footage is a function of the latest planning/design guidelines for air passenger terminals, which call for more passenger gate space, increased commercial/retail space, larger ticket check-in areas, more passenger bag claim space and bag make-up areas, moving sidewalk requirements, and aircraft gates to accommodate a variety of aircraft types. None of the analysis of environmental impacts in the 1992 FEIS was based on the square footage of the proposed midfield terminal complex; therefore none of the analysis is invalidated by more square footage. It is still anticipated that the existing terminal would be closed and demolished.

Updated automobile parking requirements for 2010 have resulted in an increase in the number of surface and garage parking spaces proposed for the midfield terminal complex. The updated parking requirements include a total of 15,800 parking spaces (2,800 garages and 13,000 surface), which is 4,800 more spaces than projected in the 1992 FEIS. The 1992 FEIS did not define the terminal area apron necessary for the midfield terminal complex. The Project Definition has identified the proposed layout and size of 572,150 square yards for the midfield terminal area apron.

The 1992 FEIS identified the need and assessed the impact for relocating the Airport Traffic Control Tower (ATCT) to a new location on the airfield. It did not however, identify the exact location for the ATCT. An ATCT siting study was completed in 2000 and found that among the five alternative locations Site B (southwest of the midfield terminal complex) was the preferred location. This location would not provide an unobstructed view of the southeastern end of Runway 14/32 as required by FAA Order 5300.13. In order to meet this requirement, one of several options will be needed to be implemented. These options include: The modification of the Fedex building, the relocation of the Fedex ground tower, the displacement of landing and takeoff thresholds by 300 feet for Runway 32, and the use of a variety of surveillance technologies (e.g., closed-circuit television and ASD radar).

The automobile access to the midfield terminal complex was defined in general terms in the 1992 FEIS as being a new interchange off Interstate-70 near Bridgeport Road. No specific plans of the location or design were available in 1992. Since the preparation of the 1992 FEIS, the location and design of the midfield terminal interchange has been finalized and disclosed as part of the 1995 Federal Highway Administration Draft Environmental Assessment (EA). The FAA has not adopted, issued a finding, nor is it at this time a cooperating agency in the preparation of this draft EA. This SFEIS will assess the environmental impacts associated with the construction of the midfield terminal interchange at the location provided in the 1995 Draft EA. Service roads and interior circulation roadways were not specifically defined in the 1992 FEIS as well. This SFEIS will provide the environmental assessment of the location of the airfield service and interior circulation roadways.

In order to provide the necessary aircraft access between both sides of the airfield with a midfield terminal, two cross-field taxiways were proposed in the 1992 FEIS. To complete this, one existing taxiway was to be extended and another taxiway was to be constructed. The construction of a new taxiway has been completed (Taxiway P, 1996), but the extension to Taxiway R has not been completed due to the midfield terminal complex not being constructed. In addition to refining the design of the midfield terminal complex, the Project Definition has reassessed the operation of the cross-field taxiways. The Project Definition found that to provide efficient aircraft taxi-flow to and from the midfield terminal complex and across the airfield, a dual taxiway system would be preferred configuration. To accomplish this, the extension of Taxiway R as recommended in the 1992 FEIS would be completed and an additional cross-field taxiway just north of Taxiway R would be constructed. The proposed cross-field taxiways are still within the same general area assessed in the 1992 FEIS and would still include the extension of an existing taxiway and the construction of another cross-field taxiway.

The scope of this development is not significantly different from that described in earlier scoping completed for the 1992 FEIS that considered development of master plan. Nevertheless, new public scoping will be held in order that all significant issues related to the revised proposed actions are identified. Copies of a scoping document with additional detail can be obtained by contacting the FAA informational contact person identified above. Federal, State and local agencies and other interested parties are invited to make comments and suggestions to ensure that the full range of issues related to these proposed actions are addressed and all significant issues identified. These comments and suggestions should be received by the FAA informational contact person, identified above, by December 29, 2000.

Scoping by Mail

Scoping will be accomplished by correspondence. The FAA is soliciting comments by mail during the period November 24, 2000 through December 29, 2000. To ensure consideration in the preparation of the Supplement to the 1992 Final Environmental Impact Statement, written comments must be received by December 29, 2000. Late comments will be considered to the extent practicable. Letters describing the proposed action and soliciting comments have been sent to appropriate federal, state, and local agencies, with information describing this proposal attached. Letters have also been sent to organizations that are known to have an interest in this proposal to provide them the opportunity to comment.

Issued in Des Plaines, Illinois, on November 16, 2000.
Pene' A. Beversdorf,
Acting Manager, Chicago Airports District Office, FAA, Great Lakes Region.

[FR Doc. 00-30253 Filed 11-27-00; 8:45 am]

BILLING CODE 4910-13-M